DEPARTMENT OF TRANSPORTATION

Federal Aviation Administration

14 CFR Part 71

[Docket No. FAA-2003-15299; Airspace Docket No. 03-AWP-9]

Modification of Class E Airspace; Window Rock, AZ; Correction

AGENCY: Federal Aviation Administration (FAA), DOT.

ACTION: Direct final rule; request for comments; correction.

SUMMARY: This action corrects a rule that was published in the Federal Register on June 19, 2003, (68 FR 36743; FR Doc. 03-15526). It corrects an error in the legal description of the 1,200 Class E airspace for Window Rock, AZ.

DATES: The direct final rule is effective at 0901 UTC on September 4, 2003. Comments for inclusion in the Rules Docket must be received on or before July 25, 2003.

FOR FURTHER INFORMATION CONTACT: Jeri Carson, Air Traffic Division, Airspace Branch, AWP-520, Western-Pacific Region, Federal Aviation Administration, 15000 Aviation Boulevard, Lawndale, California 90261, telephone (310) 725-6611.

SUPPLEMENTARY INFORMATION: The FAA published FR Document 03-15526 in the Federal Register on June 19, 2003, (68 FR 36743) to modify Class E airspace at Window Rock, AZ. The paragraph pertaining to the legal description of the 1,200’ Class E airspace was described incorrectly. The following information corrects the airspace legal description for Window Rock, AZ.

§ 71.1 [Corrected]

On page 36744, column 2, beginning with the 2nd line from the top, change to read: That airspace extending upward from 1,200 feet above the surface bounded by a line beginning at Lat. 36°04′00″ N, Long. 109°27′00″ W; to Lat. 36°07′00″ N, Long. 109°23′00″ W; to Lat. 35°54′00″ N, Long. 109°03′00″; thence along Lat. 35°54′00″ N to the western edge of V-421 and thence southwest along the western edge of V-421 to Lat. 35°13′15″ N, Long. 109°06′02″ W; to Lat. 35°20′25″ N, Long. 109°10′42″ W; to Lat. 35°08′00″ N, Long. 109°25′00″ W; to Lat. 35°08′00″ N, Long. 109°30′00″ W; thence north along Long. 109°30′00″ W to the southern edge of V-95; thence northeast along the southern edge of V-95 to Lat. 35°54′54″ N, Long. 109°13′10″ W; to the point of beginning.

Issued in Los Angeles, California, July 16, 2003.
Stephen Lloyd,
Acting Assistant Manager, Air Traffic Division, Western-Pacific Region.

[FR Doc. 03-18919 Filed 7-24-03; 8:45 am]

BILLING CODE 4910-13-M